DEPARTMENT OF COMMERCE

National Oceanic and Atmospheric Administration

RIN 0648-XD075

[Endangered Species; File No. 18136]

Issuance of Permit

AGENCY: National Marine Fisheries Service (NMFS), National Oceanic and Atmospheric Administration (NOAA), Commerce.

ACTION: Issuance of permit.

SUMMARY: Notice is hereby given that Larry Wood, LDWood BioConsulting, Inc., 425 Kennedy Street, Jupiter, FL 33468 has been issued a permit to take hawksbill sea turtles (Eretmochelys imbricata) for purposes of scientific research.

ADDRESSES: The permit and related documents are available for review upon written request or by appointment in the Permits and Conservation Division, Office of Protected Resources, NMFS, 1315 East-West Highway, Room 13705, Silver Spring, MD 20910; phone (301) 427-8401; fax (301) 713-0376.

FOR FURTHER INFORMATION CONTACT: Amy Hapeman or Brendan Hurley, (301) 427-8401.

SUPPLEMENTARY INFORMATION: On January 17. 2014, notice was published in the Federal Register (79 FR 3181) that a request for a scientific research permit to take hawksbill sea turtles had been submitted by the above-named individual. The requested permit has been issued under the authority of the Endangered Species Act of 1973, as amended (ESA; 16 U.S.C. 1531 et seq.) and the regulations governing the taking, importing, and exporting of endangered and threatened species (50 CFR parts 222-226).

Mr. Wood has been issued a research permit to continue to describe the abundance and movements of an aggregation of hawksbill sea turtles found on the barrier reefs of southeast Florida. Up to 50 sea turtles may be approached during dives for observation and photographs annually. Up to 25 additional animals may be hand captured, measured, flipper and passive integrated transponder tagged, photographed, tissue sampled, and released annually. In addition, up to six sub-adult and six adult hawksbills may be captured for the above procedures and fitted with a satellite transmitter prior to their release. The permit is valid through September 30, 2019.

Issuance of this permit, as required by the ESA, was based on a finding that such permit (1) was applied for in good faith, (2) will not operate to the disadvantage of such endangered or threatened species, and (3) is consistent with the purposes and policies set forth in section 2 of the ESA.

Dated: December 5, 2014.
Julia Harrison,
Chief, Permits and Conservation Division, Office of Protected Resources, National Marine Fisheries Service.

[FR Doc. 2014-29347 Filed 12-15-14; 8:45 am]

BILLING CODE 3510-22-P